DEPARTMENT OF THE INTERIOR

Bureau of Land Management

[WY-920-00-1320-EL, WYW151133]

Belle Ayr 2000 Coal Lease Application, WY

AGENCY: Bureau of Land Management, Interior.

ACTION: Notice of Availability (NOA) of Decision Record.

SUMMARY: The Bureau of Land Management (BLM) announces the availability of the Decision Record for the Environmental Assessment (EA) for the Belle Ayr 2000 Coal Lease Application. That EA analyzes the potential impacts of leasing and mining Federal coal on lands in Campbell County, WY. BLM's decisions was to approve the Selected Alternative, which analyzed the impacts of offering for competitive lease sale approximately 243.61 acres containing an estimated 29 million tons of in-place Federal coal.

BLM received six written comments during the two scoping periods on the Belle Ayr 2000 lease application. These comments are on file in the Casper and Cheyenne offices of the BLM. Three written comments were received on the draft EA, and these were included, with written responses, in the final EA. The transcript of the formal hearing is on file in the Casper and Cheyenne Offices of the BLM. Three written comments were received on the final EA. All comments that were received during the process were considered in the preparation of the draft and final EA's, and in the Decision Record.

BLM Notices of Availability for the draft EA and for the final EA for this project were published in the Federal Register on December 29, 2000 (65 FR 83076), and on April 24, 2001 (66 FR 20681), respectively.

DATES: The Decision Record was signed by the Acting BLM WY State Director on June 6, 2001. Parties in interest have the right to appeal that decision pursuant to 43 CFR part 4, within thirty days from the date of publication of this NOA in the Federal Register. The Decision Record contains instructions on taking appeals to the Interior Board of Land Appeals.

FOR FURTHER INFORMATION CONTACT: Melvin Schlagel, phone: (307) 775-6257. Copies of the Decision Record may be obtained from the following BLM offices: Casper Field Office, 2987 Prospector Drive, Casper, Wyoming 82604, 307-261-7600; and Wyoming State Office, 5353 Yellowstone Road, Cheyenne, Wyoming 82009, 307-775-6256.

Dated: June 25, 2001.
Phillip C. Perlewitz,
Chief, Branch of Solid Minerals.

[FR Doc. 01-16386 Filed 6-27-01; 8:45 am]

BILLING CODE 4310-22-M